DEPARTMENT OF STATE

[Public Notice 6775]

Javits Report 2010

SUMMARY: In accordance with Section 25 of the Arms Export Control Act (AECA), as amended, 22 U.S.C. 2765, the State Department prepares an annual report to Congress (the “Javits” Report) regarding an arms sales proposal covering all Foreign Military Sales (FMS) and Direct Commercial Sales (DCS) of major weapons or weapons-related defense equipment worth $7,000,000 or more, and of any other weapons or weapons-related defense equipment worth $25,000,000 or more, which are considered eligible for approval during the relevant calendar year.

DATES: All DCS Javits Report 2010 submissions must be received by October 23, 2009.

FOR FURTHER INFORMATION: Members of the public who need additional information regarding the DCS portion of the Javits Report should contact Allie Frantz, PM/DDTC, SA-1, 12th Floor, Directorate of Defense Trade Controls, Bureau of Political-Military Affairs, U.S. Department of State, Washington, DC 20522-0112; telephone (202) 736-9220; or e-mail FrantzA@state.gov.

SUPPLEMENTARY INFORMATION:

The Javits Report 2010 is an Arms Sales Proposal, to Congress, which covers all sales and licensed commercial exports under the Arms Export Control Act of major weapons or weapons-related defense equipment worth $7,000,000 or more, and of any other weapons or weapons-related defense equipment worth $25,000,000 or more, which are considered eligible for approval during calendar year 2010, together with an indication of which sales and licensed commercial exports are deemed most likely to result in a letter of offer or the issuance of an export license during 2010.

Javits Report entries for proposed Direct Commercial Sales should be submitted on the DS-4048 form to javitsreport@state.gov, no later than October 23, 2009. The DS-4048 form and instructions are located on the DDTC's Web site at http://www.pmddtc.state. gov/reports/javits_report.html. Submissions should be limited to those activities for which a prior marketing license or other approval from DDTC has been authorized and ongoing contract negotiations will result in either a procurement date in 2010 or the likely award of the contract to the reporting company during 2010. To complete the DS-4048 form, the following information is required: Country to which sale or export is proposed; Category of proposed sale or export (aircraft, missile, ships, satellite, etc.); Type of activity (direct commercial sale or foreign military sale); Value of proposed sale or export and quantity of items anticipated. Include a concise description of the article to be sold or exported, including any details of what is expected to be included in the contract (maintenance, upgrade, etc.).

Dated: September 29, 2009.
Robert S. Kovac,
Managing Director, Directorate of Defense Trade Controls, Department of State.

[FR Doc. E9-24093 Filed 10-5-09; 8:45 am]

BILLING CODE 4710-25-P